COMMITTEE FOR PURCHASE FROM PEOPLE WHO ARE BLIND OR SEVERELY DISABLED

Procurement List; Deletions

AGENCY: Committee for Purchase From People Who Are Blind or Severely Disabled.

ACTION: Deletions from the Procurement List.

SUMMARY: This action deletes products and service from the Procurement List previously furnished by such agencies.

DATES: Date deleted from the Procurement List: 11/26/2017.

ADDRESSES: Committee for Purchase From People Who Are Blind or Severely Disabled, 1401 S. Clark Street, Suite 715, Arlington, Virginia 22202-4149.

FOR FURTHER INFORMATION CONTACT: Amy B. Jensen, Telephone: (703) 603-7740, Fax: (703) 603-0655, or email CMTEFedReg@AbilityOne.gov.

SUPPLEMENTARY INFORMATION:

Deletions

On 9/22/2017 (F.R. Vol. 82, No. 183), the Committee for Purchase From People Who Are Blind or Severely Disabled published notice of proposed deletions from the Procurement List.

After consideration of the relevant matter presented, the Committee has determined that the products and services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and service to the Government.

3. There are no known regulatory alternatives which would accomplish the objectives of the Javits-Wagner-O'Day Act (41 U.S.C. 8501-8506) in connection with the products and service deleted from the Procurement List.

End of Certification

Accordingly, the following products and service are deleted from the Procurement List:

Products

NSNs—Product Names:

5340-00-477-3700—Strap, Webbing

5340-00-992-9254—Cover, Protective

Mandatory Source of Supply: Huntsville Rehabilitation Foundation, Huntsville, AL

Contracting Activity: DLA Troop Support, Philadelphia, PA

7520-00-285-3143—Wood Filing Box—3″ x 5″ Cards, 3″ Capacity, Light Oak

7520-00-285-3144—Wood Filing Box—3″ x 5″ Cards, 3″ Capacity, Walnut

7520-00-285-3145—Wood Filing Box—3″ x 5″ Cards, 9″ Capacity, Walnut

7520-00-285-3146—Wood Filing Box—5″ x 8″ Cards, 9″ Capacity, Walnut

7520-00-285-3147—Wood Filing Box—3″ x 5″ Cards, 9″ Capacity, Light Oak

7520-00-285-3148—Wood Filing Box—5″ x 8″ Cards, 9″ Capacity, Light Oak

Mandatory Source of Supply: Napa Valley PSI, Inc., Napa, CA

Contracting Activity: GSA/FSS OFC SUP CTR—Paper Products, New York, NY

7045-01-470-3011—Data Cartridge, Travan

Mandatory Source of Supply: North Central Sight Services, Inc., Williamsport, PA

Contracting Activity: DLA Troop Support, Philadelphia, PA

6532-00-149-0327—Trousers, Operating, Surgical

6532-00-149-0328—Trousers, Operating, Surgical

6532-00-149-0329—Trousers, Operating, Surgical

6532-00-149-0330—Trousers, Operating, Surgical

Mandatory Source of Supply: Human Technologies Corporation, Utica, NY

Contracting Activity: DLA Troop Support, Philadelphia, PA

Service

Service Type/Location: GSA, Southwest Supply Center: 819 Taylor Street, Fort Worth, TX

Mandatory Source of Supply: Expanco, Inc., Fort Worth, TX

Contracting Activity: Federal Acquisition Service, GSA/FSS Greater Southwest Acquisition Ctr (7FCO), Fort Worth, TX

Patricia Briscoe,
Deputy Director, Business Operations (Pricing and Information Management).

[FR Doc. 2017-23405 Filed 10-26-17; 8:45 am]

BILLING CODE 6353-01-P